DEPARTMENT OF VETERANS AFFAIRS

[OMB Control No. 2900—New (VA Form 10-21081)]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before July 3, 2006.

FOR FURTHER INFORMATION OR A COPY OF THE SUBMISSION CONTACT: Denise McLamb, Records Management Service (005G2), Department of Veterans Affairs, 810 Vermont Avenue, NW., Washington, DC 20420, (202) 565-8374, FAX (202) 565-6950 or e-mail: denise.mclamb@mail.va.gov. Please refer to 2900—New (VA Form 10-21081).” Send comments and recommendations concerning any aspect of the information collection to VA's OMB Desk Officer, OMB Human Resources and Housing Branch, New Executive Office Building, Room 10235, Washington, DC 20503 (202) 395-7316. Please refer to “2900—New (VA Form 10-21081).”

SUPPLEMENTARY INFORMATION:

Title: After Death Bereaved Family Member Satisfaction Survey, VA Form 10-21081(NR).

OMB Control Number: 2900—New (VA Form 10-21081).

Type of Review: New collection.

Abstract: The data collected on VA Form 10-21081 (NR) will be used to survey family members of deceased veterans on their satisfaction with the quality of care provided to their loved one prior to his or her death at a VA facility.

An agency may not conduct or sponsor, and a person is not required to respond to a collection of information unless it displays a currently valid OMB control number. The Federal Register Notice with a 60-day comment period soliciting comments on this collection of information was published on March 29, 2006 at page 15800.

Affected Public: Individuals or households.

Estimated Annual Burden: 588 hours.

Estimated Average Burden Per Respondent: 15 minutes.

Frequency of Response: One-time.

Estimated Number of Respondents: 2,351.

Dated: May 18, 2006.
By direction of the Secretary.
Denise McLamb,
Program Analyst, Records Management Service.

[FR Doc. E6-8416 Filed 5-31-06; 8:45 am]

BILLING CODE 8320-01-P